DEPARTMENT OF THE INTERIOR

National Park Service

Environmental Impact Statement; Notice of Availability

AGENCY: National Park Service, Interior.

ACTION: Notice of intent to prepare a General Management Plan and Environmental Impact Statement (GMP/EIS).

SUMMARY: In accordance with the National Environmental Policy Act of 1969 (42 U.S.C. 4332(2)(c)), the National Park Service (NPS) is preparing a General Management Plan and Environmental Impact Statement (GMP/EIS) for the Sagamore Hill National Historic Site (NHS), located in the town of Oyster Bay, Nassau County, New York. The park is composed of lands purchased by Theodore Roosevelt in Oyster Bay, New York in 1880. Theodore Roosevelt lived in the 28-room Queen Anne style home and maintained a working farm on the property from 1885 to his death in January 1919. Throughout Theodore Roosevelt's Presidency from 1902 to 1908, Sagamore Hill served as the Summer White House. Prepared by planners in the NPS Northeast Region, with assistance from advisors and consultants, the GMP/EIS will propose a long-term approach to managing Sagamore Hill NHS. Consistent with the site's mission, NPS policy, and other laws and regulations, alternatives will be developed to guide the management of the site over the next 15 to 20 years. A range of alternatives will be formulated for natural and cultural resource protection, visitor use and interpretation, facilities development, and operations. The EIS will assess the impacts of alternative management strategies that will be described in the GMP for Sagamore Hill NHS. The public will be invited to express concerns about the management of the site early in the process through public meetings and other media; and will have an opportunity to review and comment on the draft GMP/EIS. Following public review processes outlined under NEPA, the final plan will become official, authorizing implementation of the preferred alternative. The target date for the Record of Decision is June 2006.

Dated: March 22, 2004.
Gay Vietzke,
Superintendent, Sagamore Hill National Historic Site.

[FR Doc. 04-9796 Filed 4-29-04; 8:45 am]

BILLING CODE 4310-09-M